ENVIRONMENTAL PROTECTION AGENCY

40 CFR Part 52

[EPA-R05-OAR-2008-0515; FRL-8985-4]

Approval and Promulgation of Air Quality Implementation Plans; Indiana

AGENCY: Environmental Protection Agency (EPA).

ACTION: Direct final rule.

SUMMARY: Indiana has requested that EPA approve as revisions to its State Implementation Plan (SIP) both its continuous emission monitoring rule and alternative monitoring requirements for Alcoa Power Generating, Inc.—Warrick Power Plant. The alternative monitoring requirements allow the use of a particulate matter (PM) continuous emissions monitoring system (CEMS) in place of a continuous opacity monitor system (COMS).

DATES: This direct final rule will be effective February 26, 2010, unless EPA receives adverse comments by January 27, 2010. If adverse comments are received, EPA will publish a timely withdrawal of the direct final rule in the Federal Register informing the public that the rule will not take effect.

ADDRESSES: Submit your comments, identified by Docket ID No. EPA-R05-OAR-2008-0515, by one of the following methods:

1. http://www.regulations.gov: Follow the on-line instructions for submitting comments.

2. E-mail: mooney.john@epa.gov.

3. Fax: (312) 692-2551.

4. Mail: John M. Mooney, Chief, Criteria Pollutant Section, Air Programs Branch (AR-18J), U.S. Environmental Protection Agency, 77 West Jackson Boulevard, Chicago, Illinois 60604.

5. Hand Delivery: John M. Mooney, Chief, Criteria Pollutant Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m. excluding Federal holidays.

Instructions: Direct your comments to Docket ID No. EPA-R05-OAR-2008-0515. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters and any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Environmental Protection Agency, Region 5, Air and Radiation Division, 77 West Jackson Boulevard, Chicago, Illinois 60604. This Facility is open from 8:30 a.m. to 4:30 p.m., Monday through Friday, excluding Federal holidays. We recommend that you telephone Matt Rau, Environmental Engineer, at (312) 886-6524 before visiting the Region 5 office.

FOR FURTHER INFORMATION CONTACT: Matt Rau, Environmental Engineer, Criteria Pollutant Section, Air Programs Branch (AR-18J), Environmental Protection Agency, Region 5, 77 West Jackson Boulevard, Chicago, Illinois 60604, (312) 886-6524, rau.matthew@epa.gov.

SUPPLEMENTARY INFORMATION: Throughout this document whenever “we,” “us,” or “our” is used, we mean EPA. This supplementary information section is arranged as follows:

I. What is the background for this action?

II. What is EPA's analysis of the revision?

III. What are the environmental effects of this action?

IV. What action is EPA taking?

V. Statutory and Executive Order Reviews

I. What is the background for this action?

Indiana requested a revision to its SIP that would add both 326 Indiana Administrative Code (IAC) 3-5-1, continuous emissions monitoring requirements, and an alternative monitoring plan contained in a Commissioner's Order for a Warrick County source. Indiana submitted its request on April 25, 2008.

More specifically, Indiana has requested that EPA approve as a SIP revision the continuous emissions monitoring requirements in 326 IAC 3-5-1. Section 1(b) of that regulation addresses the applicability of these requirements. The rule lists sources that must use continuous monitoring and what pollutants those sources must monitor. There is a provision in the rule, 326 IAC 3-5-1(c)(2)(A)(iii), which allows fossil fuel-fired steam generators that are required to monitor opacity emissions to monitor PM instead. The alternate monitoring requirement is allowed when condensed water vapor in the exhaust would not provide accurate determinations of emissions as a result of interference from condensed uncombined water vapor. The alternate monitoring plan is not effective until approved by EPA as a SIP revision. See 326 IAC 3-5-1(c)(2)(A)(iv).

Under this mechanism, Indiana has requested approval of an alternate monitoring plan for Alcoa Power Generating, Inc.-Alcoa Warrick Power Plant (Alcoa) in Warrick County. Indiana adopted the alternate monitoring plan on February 11, 2008, in Commissioner's Order #2008-01. This facility has installed a scrubber control device. The scrubber will add moisture to its exhaust which condenses as the stream cools. The condensation may cause unreliable readings from a COMS. A COMS measures opacity optically, so it cannot distinguish between light impairment caused by particulate and that caused by moisture. As the scrubber removes particulate, placing the COMS prior to the exhaust entering the scrubber could also incorrectly measure Alcoa's emissions.

Alcoa has requested that it be permitted to use alternative monitoring, as provided under 326 IAC 5-3-1(c)(2)(A)(iii). It will use a PM CEMS in place of the COMS. The PM CEMS is placed after the scrubber to measure the PM emissions emitted from the Alcoa facility. Proper calibration should allow the PM CEMS to provide accurate readings, even with moisture from the scrubber in the exhaust stream. The PM CEMS readings will be used to determine whether Alcoa is in compliance with its PM emission limits.

II. What is EPA's analysis of the revision?

The addition of 326 IAC 3-5-1 enhances Indiana's SIP because these continuous emission monitoring requirements are now applicable to a number of sources. This includes several source types meeting a size requirement (e.g., fossil fuel-fired steam generators of greater than one hundred million British thermal units per hour heat input capacity). They also apply to facilities in Clark and Floyd Counties with the potential to emit at least 40 tons of nitrogen oxides (NOX) per year that are located at sources with the potential to emit 100 tons per year or more of NOX. Continuous monitoring is required on fossil-fired power plants, sulfuric acid plants, petroleum refineries, Portland cement plants, sewage sludge combustion facilities, and sources producing coke that meet the conditions in the rule. Section 1(c) of the rule specifies which pollutants each source type is to monitor. The continuous monitoring rules include the requirements for alternative monitoring provisions. EPA approval of the alternative monitoring plan is required by 326 IAC 5-3-1(c)(2)(A)(iv).

In the alternative monitoring plan approved by Indiana in Commissioner's Order #2008-01, Alcoa will monitor PM emissions in place of opacity. The visible emissions exiting the stack are primarily composed of PM. Visible emissions observations under 40 CFR part 60, appendix A, Method 9 are taken in the atmosphere after any moisture has condensed and left the plume. The COM at Alcoa, however, reads the opacity in the stack. The addition of a scrubber will remove pollutants from the exhaust, but will add moisture. This moisture condenses as the exhaust cools in the stack. This creates a higher opacity reading from the COM. Installing the COM to read the opacity before the scrubber would not give an accurate measurement of the facility's emissions because the COM would not reflect any emission reductions from the scrubber.

PM in the plume causes opacity, so PM and opacity readings can be used as reasonable substitutes for each other. The PM CEMS will be calibrated to provide accurate measurements even with moisture in the stack. The PM CEMS provides the particulate emissions from the facility. Knowing the emissions from the facility, Alcoa will be able to make adjustments or control device repairs should the emissions rise too high. This facility will average the PM CEMS data at time intervals specified in its permits. Alcoa is also required to monitor other pollutants and their operating parameters. Opacity should remain at acceptable levels if PM and the other pollutants remain in compliance of their standards. The alternate monitoring requirement removes the need to operate the COMS, but does not remove the opacity limits at the facility. Visible emissions observations in accordance with method 9 can still be made to confirm that the applicable opacity limits are being met.

III. What are the environmental effects of this action?

PM interferes with lung function when inhaled. Exposure to PM can cause heart and lung disease. Particulate matter also aggravates asthma. Airborne particulate is the main source of haze that causes a reduction in visibility. It also is deposited on the ground and in the water. This harms the environment by changing the nutrient and chemical balance.

This action only changes the monitoring requirements for Alcoa. All of the SIP emission limits remain in place.

IV. What action is EPA taking?

EPA is approving the addition of 326 IAC 3-5-1, continuous emissions monitoring requirements, and an alternative monitoring request in Indiana Commissioner's Order #2008-01 for a Warrick County source, Alcoa Power Generating, Inc. The rule adds continuous monitoring requirements to specified source types. Alcoa will operate a PM CEMS instead of a COMS. This is acceptable because moisture in the facility's exhaust stream could cause inaccurate opacity readings from a COMS. The continuous monitoring of particulate emissions is a reasonable substitute for continuous opacity monitoring in this case.

We are publishing this action without prior proposal because we view this as a noncontroversial amendment and anticipate no adverse comments. However, in the proposed rules section of this Federal Register publication, we are publishing a separate document that will serve as the proposal to approve the state plan if relevant adverse written comments are filed. This rule will be effective February 26, 2010 without further notice unless we receive relevant adverse written comments by January 27, 2010. If we receive such comments, we will withdraw this action before the effective date by publishing a subsequent document that will withdraw the final action. All public comments received will then be addressed in a subsequent final rule based on the proposed action. The EPA will not institute a second comment period. Any parties interested in commenting on this action should do so at this time. If we do not receive any comments, this action will be effective February 26, 2010.

V. Statutory and Executive Order Reviews

Under the Clean Air Act, the Administrator is required to approve a SIP submission that complies with the provisions of the Clean Air Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by February 26, 2010. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Particulate matter, Reporting and recordkeeping requirements.

Dated: November 13, 2009.
Walter W. Kovalick Jr.,
Acting Regional Administrator, Region 5.

For the reasons stated in the preamble, part 52, chapter I, of title 40 of the Code of Federal Regulations is amended as follows:

PART 52—[AMENDED]

1. The authority citation for part 52 continues to read as follows:

Authority: 42 U.S.C. 7401 et seq.

Subpart P—Indiana

2. Section 52.770 is amended by adding paragraph (c)(192) to read as follows:

§ 52.770 Identification of plan.

* * * * *

(c) * * *

(192) On April 25, 2008, Indiana submitted regulations that incorporate its continuous emission monitoring requirements into its SIP. Indiana also submitted Commissioner's Orders that provide an alternative monitoring plan for a Warrick County source. The alternative monitoring requirements allow the use of a particulate matter continuous emissions monitoring system in place of a continuous opacity monitor.

(i) Incorporation by reference. (A) Indiana Administrative Code Title 326: Air Pollution Control Board, Article 3: Monitoring Requirements, Rule 5: Continuous Monitoring of Emissions, Section 1: Applicability; monitoring requirements for applicable pollutants. Filed with the Secretary of State on January 30, 1998, and effective on March 1, 1998. Published in 21 Indiana Register 2062-2079 on March 1, 1998. (B) Commissioner's Order #2008-01 as issued by the Indiana Department of Environmental Management on February 11, 2008.

[FR Doc. E9-30406 Filed 12-24-09; 8:45 am]

BILLING CODE 6560-50-P